DEPARTMENT OF LABOR

Employment and Training Administration

[TA-W-73,608]

PricewaterhouseCoopers LLP (“PwC”) Internal Firm Services Client Account Administrators Group, Charlotte, NC; Amended Certification Regarding Eligibility To Apply for Worker Adjustment Assistance

In accordance with Section 223 of the Trade Act of 1974, as amended (“Act”), 19 U.S.C. 2273, the Department of Labor issued a Certification of Eligibility to Apply for Worker Adjustment Assistance on September 1, 2010, applicable to workers of PricewaterhouseCoopers LLP (“PwC”), Internal Firm Services (“IFS”) Group, Charlotte, North Carolina. The notice was published in the Federal Register on September 21, 2010 (75 FR 57515).

At the request of a company official, the Department reviewed the certification for workers of the subject firm. The IFS workers supply professional services and public accounting services.

New information shows that the Department did not correctly state the subject firm name in its entirety on the certification decision. The correct name of the subject firm should read PricewaterhouseCoopers LLP (“PwC”), Internal Firm Services Client Account Administrators Group.

Accordingly, the Department is amending this certification to correct the name of the subject firm to read PricewaterhouseCoopers LLP (“PwC”), Internal Firm Services Client Account Administrators Group.

The amended notice applicable to TA-W-73,608 is hereby issued as follows:

All workers of PricewaterhouseCoopers LLP (“PwC”), Internal Firm Services Client Account Administrator Group, Charlotte, North Carolina, who became totally or partially separated from employment on or after February 26, 2009, through September 1, 2012, and all workers in the group threatened with total or partial separation from employment on the date of certification through two years from the date of certification, are eligible to apply for adjustment assistance under Chapter 2 of Title II of the Trade Act of 1974, as amended.

Signed at Washington, DC, this 20th day of October 2010.
Elliott S. Kushner,
Certifying Officer, Division of Trade Adjustment Assistance.

[FR Doc. 2010-27386 Filed 10-28-10; 8:45 am]

BILLING CODE 4510-FN-P